DEPARTMENT OF HEALTH AND HUMAN SERVICES

Centers for Medicare & Medicaid Services

42 CFR Part 482

Conditions of Participation for Hospitals

CFR Correction

In Title 42 of the Code of Federal Regulations, Part 482 to End, revised as of October 1, 2014, on page 40, in the introductory text of § 482.92, remove the term “recipient” and add “beneficiary” in its place.

[FR Doc. 2015-17127 Filed 7-13-15; 8:45 am]

BILLING CODE 1505-01-P